DEPARTMENT OF COMMERCE

International Trade Administration

[A-570-504]

Certain Petroleum Wax Candles From the People's Republic of China: Continuation of Antidumping Duty Order

AGENCY: Enforcement and Compliance, International Trade Administration, Commerce.

SUMMARY: As a result of the determinations by the Department of Commerce (“Department”) and the International Trade Commission (“ITC”) that revocation of the antidumping duty (“AD”) order on certain petroleum wax candles (“candles”) from the People's Republic of China (“PRC”) would likely lead to a continuation or recurrence of dumping and material injury to an industry in the United States, the Department is publishing a notice of continuation of the antidumping duty order.

DATES: Effective May 26, 2016.

FOR FURTHER INFORMATION CONTACT: Katie Marksberry, AD/CVD Operations, Office V, Enforcement and Compliance, International Trade Administration, U.S. Department of Commerce, 14th Street and Constitution Avenue NW., Washington, DC 20230; telephone: (202) 482-7906.

SUPPLEMENTARY INFORMATION:

Background

On August 26, 1986, the Department published the AD Order on candles from the PRC.¹ On December 1, 2015, the Department published the notice of initiation of the fourth five-year (“sunset”) review of the AD order on candles from the PRC pursuant to section 751(c) of the Tariff Act of 1930, as amended (the “Act”).² As a result of its review, the Department determined that revocation of the AD order on candles from the PRC would likely lead to a continuation or recurrence of dumping. Therefore, the Department notified the ITC of the magnitude of the margins likely to prevail should the AD order be revoked.³ On May 18, 2016, the ITC published its determination, pursuant to section 751(c) of the Act, that revocation of the AD order on candles from the PRC would likely lead to a continuation or recurrence of material injury to an industry in the United States within a reasonably foreseeable time.⁴

¹ See Antidumping Duty Order: Petroleum Wax Candles From the People's Republic of China, 51 FR 30686 (August 28, 1986) (“Order”).

² See Initiation of Five-Year (“Sunset”) Review, 80 FR 75064 (December 1, 2015).

³ See Certain Petroleum Wax Candles from the People's Republic of China: Final Results of Expedited Fourth Sunset Review of the Antidumping Duty Order, 81 FR 17665 (March 30, 2016) and accompanying Issues and Decision Memorandum.

⁴ See Petroleum Wax Candles from China, 81 FR 31256 (May 18, 2016); Petroleum Wax Candles from China (Inv. No. 731-TA-282 (Fourth Review), USITC Publication 4610, May 2016).

Scope of the Order

The products covered by the order are certain scented or unscented petroleum wax candles made from petroleum wax and having fiber or paper-cored wicks. They are sold in the following shapes: Tapers, spirals and straight-sided dinner candles; rounds, columns, pillars, votives; and various wax-filled containers. The products were originally classifiable under the Tariff Schedules of the United States item 755.25, Candles and Tapers. The products are currently classifiable under the Harmonized Tariff Schedule (“HTS”) item number 3406.00.00. The HTS item number is provided for convenience and customs purposes. The written description remains dispositive.

Continuation of the Order

As a result of the determinations by the Department and the ITC that revocation of the AD order would likely lead to a continuation or recurrence of dumping and material injury to an industry in the United States, pursuant to section 751(d)(2) of the Act, the Department hereby orders the continuation of the AD order on candles from the PRC. U.S. Customs and Border Protection will continue to collect AD cash deposits at the rates in effect at the time of entry for all imports of subject merchandise.

The effective date of the continuation of the AD order will be the date of publication in the Federal Register of this notice of continuation. Pursuant to section 751(c)(2) of the Act, the Department intends to initiate the next sunset review of the AD order not later than 30 days prior to the fifth anniversary of the effective date of continuation. This sunset review and notice is in accordance with section 751(c) of the Act and published pursuant to section 777(i)(1) of the Act and 19 CFR 351.218(f)(4).

Dated: May 19, 2016.
Paul Piquado,
Assistant Secretary for Enforcement and Compliance.

[FR Doc. 2016-12542 Filed 5-25-16; 8:45 am]

BILLING CODE 3510-DS-P